DEPARTMENT OF AGRICULTURE

Animal and Plant Health Inspection Service

[Docket No. APHIS-2006-0035]

Supplemental Environmental Impact Statement for Gull Hazard Reduction Program at John F. Kennedy International Airport

AGENCY: Animal and Plant Health Inspection Service, USDA.

ACTION: Notice of intent.

SUMMARY: We are advising the public that a supplemental environmental impact statement will be prepared by the Animal and Plant Health Inspection Service to analyze alternatives and methods for the reduction of additional wildlife hazards to aircraft and human health and safety at John F. Kennedy International Airport. This action is a supplement to the Gull Hazard Reduction Program at John F. Kennedy International Airport Final Environmental Impact Statement, May 1994.

FOR FURTHER INFORMATION CONTACT: Mr. Richard Chipman, Wildlife Services, APHIS, 1930 Route 9, Castleton, NY 12033-9653; (518) 477-4837.

SUPPLEMENTARY INFORMATION: The Animal and Plant Health Inspection Service (APHIS), in cooperation with the Department of the Interior's Fish and Wildlife Service and National Park Service, the Federal Aviation Administration, the New York State Department of Environmental Conservation, the Port Authority of New York and New Jersey, and the New York City Department of Environmental Protection, intends to prepare a supplemental environmental impact statement (SEIS) to address wildlife hazards to aircraft resulting from changes in wildlife populations and land uses in and around the John F. Kennedy International Airport (JFK). This action is a supplement to the Gull Hazard Reduction Program at John F. Kennedy International Airport Final Environmental Impact Statement (EIS), May 1994.

The scope of the EIS will be changed to include management of risks associated with bird species already addressed in the 1994 EIS and hazards associated with additional wildlife species including, but not limited to, double-crested cormorants and Canada geese. The SEIS will review the efficacy and impacts of current wildlife hazard management efforts and analyze impacts of new and/or expanded alternatives and methods for wildlife hazard management at JFK. We anticipate that the draft SEIS will be available for review by the general public in September 2006.

The SEIS will be prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 29th day of March 2006.
Kevin Shea,
Acting Administrator, Animal and Plant Health Inspection Service.

[FR Doc. E6-4759 Filed 3-31-06; 8:45 am]

BILLING CODE 3410-34-P